DEPARTMENT OF THE TREASURY

Office of Foreign Assets Control

Notice of OFAC Sanctions Action

AGENCY: Office of Foreign Assets Control, Department of the Treasury.

ACTION: Notice.

SUMMARY: The U.S. Department of the Treasury's Office of Foreign Assets Control (OFAC) is publishing the names of one or more persons whose property and interests in property have been unblocked and who have been removed from OFAC's Specially Designated Nationals and Blocked Persons List (SDN List).

DATES: This action was issued on October 29, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov/.

Notice of OFAC Action

On October 29, 2025, OFAC determined that the property and interests in property subject to U.S. jurisdiction of the following persons, designated pursuant to Executive Order 13304 of May 28, 2003 (“Termination of Emergencies With Respect to Yugoslavia and Modification of Executive Order 13219 of June 26, 2001” hereinafter “E.O. 13304”), Executive Order 14033 of June 8, 2021 (“Blocking Property and Suspending Entry Into the United States of Certain Persons Contributing to the Destabilizing Situation in the Western Balkans” hereinafter “E.O. 14033”), and/or for those designated on or after January 8, 2025, pursuant to E.O. 14033, as amended by Executive Order 14140 (“Taking Additional Steps with Respect to the Situation in the Western Balkans”), are unblocked and they have been removed from the SDN List.

Individuals

BILLING CODE 4810-AL-P

BILLING CODE 4810-AL-C

Entities

1. AGAPE GORICA DODIK I IVANA DODIK S.P. BANJA LUKA (a.k.a. RESTORAN AGAPE GORICA DODIK I IVANA DODIK S.P. BANJA LUKA), Trg Krajine 2, Banja Luka 78000, Bosnia and Herzegovina; Tax ID No. 4510153630006 (Bosnia and Herzegovina) [BALKANS-EO14033] (Linked To: DODIK, Gorica).

2. AGRO VOCE D.O.O. LAKTASI (a.k.a. AGRO VOCE D.O.O.; a.k.a. AGRO VOCE D.O.O. ZA VOCARSTVO PROIZVODNJU I TRGOVINU LAKTASI), Aleksandrovac BB, Laktasi 78250, Bosnia and Herzegovina; Tax ID No. 4402836840009 (Bosnia and Herzegovina); Business Registration Number 1-16884-00 (Bosnia and Herzegovina) [BALKANS-EO14033] (Linked To: DODIK, Gorica).

3. ALTERNATIVNA TELEVIZIJA D.O.O. BANJA LUKA (a.k.a. ALTERNATIVNA TELEVIZIJA DRUSTVO ZA INFORMISANJE D.O.O. BANJA LUKA; a.k.a. ALTERNATIVNE TELEVIZIJE; a.k.a. “ALTERNATIVE TV”; a.k.a. “ATV”), Ulica Gunduliceva 33, Banja Luka 78000, Bosnia and Herzegovina; Organization Established Date 1997; Tax ID No. 4400946870008 (Bosnia and Herzegovina); Registration Number 1-9857-00 (Bosnia and Herzegovina) [BALKANS-EO14033] (Linked To: DODIK, Milorad).

4. BEST SERVICE D.O.O. BANJA LUKA (a.k.a. AGAPE BEST D.O.O. BANJA LUKA; a.k.a. NAJBOLJA USLUGA DRUSTVO SA OGRANICENOM ODGOVORNOSCU BANJA LUKA), Trg Krajine br. 2, Banja Luka 78000, Bosnia and Herzegovina; Organization Established Date 27 Nov 2023; Organization Type: Restaurants and mobile food service activities; Tax ID No. 4405158280005 (Bosnia and Herzegovina); Business Registration Number 57-01-0554-23 (Bosnia and Herzegovina) [BALKANS-EO14033] (Linked To: DOBRIC, Aleksandar).

5. ELPRING D.O.O. LAKTASI, XVI Krajiske Motorizovane Brigade 63, Laktasi 78250, Bosnia and Herzegovina; Organization Established Date 17 Jul 2024; Tax ID No. 4405278340001 (Bosnia and Herzegovina); Business Registration Number 57-01-0312-24 (Bosnia and Herzegovina) [BALKANS-EO14033] (Linked To: DODIK, Igor).

6. FRUIT ECO D.O.O. GRADISKA (a.k.a. DRUSTVO SA OGRANICENOM ODGOVORNOSCU ZA PROIZVODNJU I PROMET VOCA I POVRCA FRUIT ECO D.O.O. GORNJI PODGRADCI, GRADISKA; a.k.a. FRUIT ECO D.O.O.), Gornji Podgradci BB, Gradiska 78400, Bosnia and Herzegovina; Tax ID No. 4402717080004 (Bosnia and Herzegovina); Business Registration Number 1-16289-00 (Bosnia and Herzegovina) [BALKANS-EO14033] (Linked To: DODIK, Igor).

7. GLOBAL LIBERTY D.O.O. LAKTASI (a.k.a. DRUSTVO SA OGRANICENOM ODGOVORNOSCU GLOBAL LIBERTY LAKTASI; a.k.a. GLOBAL LIBERTY D.O.O.), Gradiska cesta 57, Laktasi 78250, Bosnia and Herzegovina; Tax ID No. 4403756190000 (Bosnia and Herzegovina); Business Registration Number 57-01-0286-14 (Bosnia and Herzegovina) [BALKANS-EO14033] (Linked To: DODIK, Igor; Linked To: DODIK, Gorica).

8. INFINITY INTERNATIONAL GROUP D.O.O. BANJA LUKA, Trg Srpskih Junaka 4, Banja Luka 78000, Bosnia and Herzegovina; Organization Established Date 20 Jul 2020; Tax ID No. 4404593160007 (Bosnia and Herzegovina); Business Registration Number 57-01-0179-20 (Bosnia and Herzegovina) [BALKANS-EO14033] (Linked To: DJURIC, Djordje).

9. INFINITY MEDIA D.O.O., Trg Srpskih Junaka 4, Banja Luka 78000, Bosnia and Herzegovina; Organization Established Date 31 Jul 2021; Tax ID No. 4404748110001 (Bosnia and Herzegovina); Business Registration Number 11207138 (Bosnia and Herzegovina) [BALKANS-EO14033] (Linked To: INFINITY INTERNATIONAL GROUP D.O.O. BANJA LUKA).

10. K-2 AUDIO SERVICES BANJA LUKA D.O.O. (a.k.a. K-2 AUDIO USLUGE BANJA LUKA D.O.O.; a.k.a. “K-2 D.O.O.”), Gunduliceva 33, Banja Luka 78000, Bosnia and Herzegovina; Organization Established Date 02 Dec 2002; Tax ID No. 4401652230007 (Bosnia and Herzegovina); Business Registration Number 01962426 (Bosnia and Herzegovina) [BALKANS-EO14033] (Linked To: INFINITY MEDIA D.O.O.).

11. KALDERA COMPANY EL PGP D.O.O., Kobatovci BB, Laktasi 78250, Bosnia and Herzegovina; Organization Established Date 30 Mar 1998; Tax ID No. 4401185190004 (Bosnia and Herzegovina) [BALKANS-EO14033] (Linked To: DODIK, Igor).

12. NIMBUS INNOVATIONS D.O.O. BANJA LUKA, Brace Pantica 2, Banja Luka 78000, Bosnia and Herzegovina; Organization Established Date 23 Jul 2024; Tax ID No. 4405275080009 (Bosnia and Herzegovina); Business Registration Number 57-01-0301-24 (Bosnia and Herzegovina) [BALKANS-EO14033] (Linked To: DODIK, Igor).

13. PROINTER ITSS D.O.O. BANJA LUKA CLAN INFINITY INTERNATIONAL GROUP (a.k.a. PROINTER ITSS D.O.O. BANJA LUKA), Ulica Vidovdanska 8, Banja Luka 78000, Bosnia and Herzegovina; Organization Established Date 28 Apr 2015; Tax ID No. 4403865130009 (Bosnia and Herzegovina); Business Registration Number 57-01-0142-15 (Bosnia and Herzegovina) [BALKANS-EO14033] (Linked To: DODIK, Igor).

14. SEE MEDIA RESEARCH LTD, Floor 1, 1 Goergiou Gennadiou, Larnaca 6031, Cyprus; Organization Established Date 05 Oct 2023; Business Registration Number HE452094 (Cyprus) [BALKANS-EO14033] (Linked To: GUJANICIC, Marko).

15. SIRIUS 2010 D.O.O. BANJA LUKA (a.k.a. INFORMACIONI INZINJERING SIRIUS 2010 DRUSTVO SA OGRANICENOM ODGOVORNOSCU BANJA LUKA; a.k.a. SIRIUS 2010 D.O.O. KOTOR VAROS), Brace Pantica 2, Banja Luka 78000, Bosnia and Herzegovina; Ul. Prvog Krajiskog Korpusa 18, Banja Luka 78000, Bosnia and Herzegovina; Kralja Petra I Karadordevica 109, Banja Luka 78000, Bosnia and Herzegovina; Organization Established Date 27 Sep 2007; Tax ID No. 4402692070009 (Bosnia and Herzegovina); Business Registration Number 1-16223-00 (Bosnia and Herzegovina) [BALKANS-EO14033] (Linked To: DODIK, Igor).

16. UNA WORLD NETWORK D.O.O. (a.k.a. UNA SVIJET MREZA D.O.O.), Bulevar Srpske Vojske 17, Banja Luka 78000, Bosnia and Herzegovina; Organization Established Date 03 Aug 2021; Tax ID No. 4404752810000 (Bosnia and Herzegovina); Business Registration Number 11207553 (Bosnia and Herzegovina) [BALKANS-EO14033] (Linked To: INFINITY MEDIA D.O.O.).

17. VORTO D.O.O., Ulica Jevrejska 67, Banja Luka 78000, Bosnia and Herzegovina; Organization Established Date 02 Mar 2020; Organization Type: Management consultancy activities; Tax ID No. 4404565110002 (Bosnia and Herzegovina); Business Registration Number 57-01-0074-20 (Bosnia and Herzegovina) [BALKANS-EO14033] (Linked To: VUKOTIC, Vlatko).

18. ZELENA JABUKA D.O.O. (a.k.a. GREEN APPLE D.O.O.), Gornji Podgradci bb, Gradiska 78400, Bosnia and Herzegovina; Organization Established Date Apr 2024; Organization Type: Growing of other tree and bush fruits and nuts; Tax ID No. 4405236420005 (Bosnia and Herzegovina); Business Registration Number 57-01-0166-24 (Bosnia and Herzegovina) [BALKANS-EO14033] (Linked To: DOBRIC, Mirko).

Bradley T. Smith,
Director, Office of Foreign Assets Control.

[FR Doc. 2025-20276 Filed 11-18-25; 8:45 am]

BILLING CODE 4810-AL-C